FEDERAL HOUSING FINANCE AGENCY

[No. 2014-N-11]

Proposed Collection; Comment Request

AGENCY: Federal Housing Finance Agency.

ACTION: 60-day notice of submission of information collection for approval from the Office of Management and Budget.

SUMMARY: In accordance with the Paperwork Reduction Act of 1995, the Federal Housing Finance Agency (FHFA) is seeking public comments concerning the information collection known as “Federal Home Loan Bank Directors,” which has been assigned control number 2590-0006 by the Office of Management and Budget (OMB). FHFA intends to submit the information collection to OMB for review and approval of a three-year extension of the control number, which is due to expire on October 31, 2014.

DATES: Interested persons may submit comments on or before October 10, 2014.

ADDRESSES: Submit comments to FHFA using any one of the following methods:

• Agency Web site: www.fhfa.gov/open-for-comment-or-input.

• Federal eRulemaking Portal: http://www.regulations.gov. Follow the instructions for submitting comments. If you submit your comment to the Federal eRulemaking Portal, please also send it by email to FHFA at RegComments@fhfa.gov to ensure timely receipt by the agency.

• Mail/Hand Delivery: Federal Housing Finance Agency, Eighth Floor, 400 Seventh Street SW., Washington, DC 20024, ATTENTION: Public Comments/Proposed Collection; Comment Request: “Federal Home Loan Bank Directors (No. 2014-N-11).”

We will post all public comments we receive without change, including any personal information you provide, such as your name and address, email address, and telephone number, on the FHFA Web site at http://www.fhfa.gov. In addition, copies of all comments received will be available for examination by the public on business days between the hours of 10 a.m. and 3 p.m., at the Federal Housing Finance Agency, Eighth Floor, 400 Seventh Street SW., Washington, DC 20024. To make an appointment to inspect comments, please call the Office of General Counsel at (202) 649-3804.

FOR FURTHER INFORMATION CONTACT: Patricia Sweeney, Management Analyst, Division of Bank Regulation, by email at Patricia.Sweeney@fhfa.gov or by telephone at (202) 649-3311or Eric Raudenbush, Assistant General Counsel, by email at Eric.Raudenbush@fhfa.gov or by telephone at (202) 649-3084 (not toll-free numbers); or by regular mail at Federal Housing Finance Agency, Eighth Floor, 400 Seventh Street SW., Washington, DC 20024. The telephone number for the Telecommunications Device for the Hearing Impaired is (800) 877-8339.

SUPPLEMENTARY INFORMATION:

A. Need For and Use of the Information Collection

Section 7 of the Federal Home Loan Bank Act (Bank Act) vests the management of each Federal Home Loan Bank (Bank) in its board of directors.¹ As required by section 7, each Bank's board comprises two types of directors: (1) Member directors, who are drawn from the officers and directors of member institutions located in the Bank's district and who are elected every four years to represent members in a particular state in that district; and (2) independent directors, who are unaffiliated with any of the Bank's member institutions, but who reside in the Bank's district and are elected every four years on an at-large basis.² Section 7 and FHFA's implementing regulation, codified at 12 CFR part 1261, establish the eligibility requirements for both types of Bank directors and the required professional qualifications for independent directors, and set forth the procedures for their election.

¹ See 12 U.S.C. 1427(a)(1).

² See 12 U.S.C. 1427(b) and (d).

Part 1261 of the regulations requires each Bank, as part of its responsibility to administer its annual director election process, to determine the eligibility of candidates to serve as member and independent directors on its board. Specifically, each Bank must require each candidate for either type of directorship, including any incumbent that may be a candidate for reelection, to complete and return to the Bank a form that solicits information about the candidate's statutory eligibility to serve and, in the case of independent director candidates, about his or her professional qualifications for the directorship being sought.³ Member director candidates are required to complete the Federal Home Loan Bank Member Director Eligibility Certification Form (Member Director Eligibility Certification Form), while independent director candidates must complete the Federal Home Loan Bank Independent Director Application Form (Independent Director Application Form).

³ See 12 CFR 1261.7(c) and (f); 12 CFR 1261.14(b).

Under part 1261, each Bank must also require each of its incumbent directors to certify annually that he or she continues to meet all of the applicable statutory eligibility requirements.⁴ Member directors do this by completing the Member Director Eligibility Certification Form again every year, while independent directors complete the abbreviated Federal Home Loan Bank Independent Director Annual Certification Form (Independent Director Annual Certification Form) to certify their ongoing eligibility.

⁴ See 12 CFR 1261.12.

The OMB control number for the information collection is 2590-0006, which is due to expire on October 31, 2014. The likely respondents are individuals who are prospective and incumbent Bank directors. Copies of each of the forms appear at the end of this notice.

B. Burden Estimate

FHFA estimates the total annual hour burden imposed upon respondents by this information collection is 145 hours. This estimate is based on the following calculations:

1. Member Director Eligibility Certification Form

FHFA estimates the total annual hour burden on all member director candidates and incumbent member directors associated with review and completion of the Member Director Eligibility Certification Form is 37 hours. This includes a total annual average of 68 member director candidates, with 1 response per individual taking an average of 15 minutes (.25 hours) (68 respondents × .25 hours = 17 hours). It also includes a total annual average of 80 incumbent member directors, with 1 response per individual taking an average of 15 minutes (.25 hours) (80 individuals × .25 hours = 20 hours).

2. Independent Director Application Form

FHFA estimates the total annual hour burden on all independent director candidates associated with review and completion of the Independent Director Application Form is 75 hours. This includes a total annual average of 25 independent director candidates, with 1 response per individual taking an average of 3 hours (25 individuals × 3 hours = 75 hours).

3. Independent Director Annual Certification Form

FHFA estimates the total annual hour burden on all incumbent independent directors associated with review and completion of the Independent Director Annual Certification Form is 33 hours. This includes a total annual average of 66 incumbent independent directors, with 1 response per individual taking an average of 30 minutes (.5 hours) (66 individuals × .5 hours = 33 hours).

C. Comment Request

FHFA requests written comments on the following: (1) Whether the collection of information is necessary for the proper performance of FHFA functions, including whether the information has practical utility; (2) the accuracy of FHFA's estimates of the burdens of the collection of information; (3) ways to enhance the quality, utility, and clarity of the information collected; and (4) ways to minimize the burden of the collection of information on respondents, including through the use of automated collection techniques or other forms of information technology.

Kevin Winkler,
Chief Information Officer, Federal Housing Finance Agency.

[FR Doc. 2014-18829 Filed 8-8-14; 8:45 am]

BILLING CODE 8070-01-C